DEPARTMENT OF ENERGY

Federal Energy Regulatory Commission

Combined Notice of Filings #1

Take notice that the Commission received the following electric rate filings:

Docket Numbers: EC19-92-001.

Applicants: Broadlands Wind Farm LLC, Lexington Chenoa Wind Farm LLC.

Description: Notice of Change in Circumstances of Broadlands Wind Farm LLC, et al.

Filed Date: 12/10/19.

Accession Number: 20191210-5119.

Comments Due: 5 p.m. ET 12/31/19.

Docket Numbers: EC20-23-000.

Applicants: Russell City Energy Company, LLC.

Description: Application for Authorization Under Section 203 of the Federal Power Act, et al. of Russell City Energy Company, LLC.

Filed Date: 12/10/19.

Accession Number: 20191210-5082.

Comments Due: 5 p.m. ET 12/31/19.

Docket Numbers: EC20-24-000.

Applicants: Central Maine Power Company.

Description: Application for Authorization Under Section 203 of the Federal Power Act, et al. of Central Maine Power Company.

Filed Date: 12/10/19.

Accession Number: 20191210-5120.

Comments Due: 5 p.m. ET 12/31/19.

Take notice that the Commission received the following electric corporate filings:

Docket Numbers: ER10-1346-007; ER10-1348-007.

Applicants: Frederickson Power L.P., Manchief Power Company LLC.

Description: Updated Market Power Analysis of Frederickson Power L.P., et al.

Filed Date: 12/10/19.

Accession Number: 20191210-5127.

Comments Due: 5 p.m. ET 2/10/20.

Docket Numbers: ER19-13-000; ER19-1816-000.

Applicants: Pacific Gas and Electric Company.

Description: Annual Formula Transmission Rate Update Filing for Rate Year 2020 of Pacific Gas and Electric Company, et al.

Filed Date: 11/27/19.

Accession Number: 20191127-5053.

Comments Due: 5 p.m. ET 12/18/19.

Docket Numbers: ER20-550-000.

Applicants: Public Service Company of Colorado.

Description: § 205(d) Rate Filing: PSC-HLYCRS-ARRIBA-SISA-100MWCurtail-570-0.0.0 to be effective 12/11/2019.

Filed Date: 12/10/19.

Accession Number: 20191210-5001.

Comments Due: 5 p.m. ET 12/31/19.

Docket Numbers: ER20-551-000.

Applicants: Midcontinent Independent System Operator, Inc.

Description: § 205(d) Rate Filing: 2019-12-10_SA 3387 ATXI-Prairie Wolf Solar GIA (J949) to be effective 11/22/2019.

Filed Date: 12/10/19.

Accession Number: 20191210-5002.

Comments Due: 5 p.m. ET 12/31/19.

Docket Numbers: ER20-552-000.

Applicants: Midcontinent Independent System Operator, Inc.

Description: § 205(d) Rate Filing: 2019-12-10_SA 3388 ATXI-Orion Renewable Resources GIA (J844) to be effective 11/25/2019.

Filed Date: 12/10/19.

Accession Number: 20191210-5004.

Comments Due: 5 p.m. ET 12/31/19.

Docket Numbers: ER20-553-000.

Applicants: Sierra Pacific Power Company.

Description: § 205(d) Rate Filing: Service Agreement No. 16-00054; Battle Mountain LGIA to be effective 12/11/2019.

Filed Date: 12/10/19.

Accession Number: 20191210-5095.

Comments Due: 5 p.m. ET 12/31/19.

Docket Numbers: ER20-554-000.

Applicants: Southwest Power Pool, Inc.

Description: § 205(d) Rate Filing: 3517R2 Plum Creek Wind, LLC GIA to be effective 11/27/2019.

Filed Date: 12/10/19.

Accession Number: 20191210-5097.

Comments Due: 5 p.m. ET 12/31/19.

Docket Numbers: ER20-555-000.

Applicants: PJM Interconnection, L.L.C.

Description: § 205(d) Rate Filing: First Revised ISA, SA No. 5481, Queue No. AC1-065/AC2-110/AD2-039/AE1-004 to be effective 11/10/2019.

Filed Date: 12/10/19.

Accession Number: 20191210-5101.

Comments Due: 5 p.m. ET 12/31/19.

Docket Numbers: ER20-556-000.

Applicants: San Diego Gas & Electric Company.

Description: § 205(d) Rate Filing: 2020 SDGE TACBAA Update to Transmission Owner Tariff Filing to be effective 1/1/2020.

Filed Date: 12/10/19.

Accession Number: 20191210-5113.

Comments Due: 5 p.m. ET 12/31/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 10, 2019.
Nathaniel J. Davis, Sr.,
Deputy Secretary.

[FR Doc. 2019-27090 Filed 12-16-19; 8:45 am]

BILLING CODE 6717-01-P